DEPARTMENT OF THE INTERIOR

Bureau of Land Management

[NM-930-1430-ET; NMNM 87650]

Public Land Order No. 7506; Revocation of Public Land Order No. 7052; New Mexico

AGENCY: Bureau of Land Management, Interior.

ACTION: Public Land Order.

SUMMARY: This order revokes Public Land Order No. 7052 in its entirety as it affects public land and federally reserved mineral interest withdrawn for protection of the unique geological formations of the Tent Rocks Area of Critical Environmental Concern. The land is withdrawn from mining and all forms of disposition other than exchange by Presidential Proclamation No. 7394 which established the Kasha-Katuwe Tent Rocks National Monument.

EFFECTIVE DATE: December 27, 2001.

FOR FURTHER INFORMATION CONTACT: Jeanette Espinosa, BLM New Mexico State Office, P.O. Box 27115, Santa Fe, New Mexico 87502, 505-438-7597.

SUPPLEMENTARY INFORMATION: By virtue of the authority vested in the Secretary of the Interior by Section 204 of the Federal Land Policy and Management Act of 1976, 43 U.S.C. 1714 (1994), it is ordered as follows:

1. Public Land Order No. 7052, which withdrew public land and federally reserved mineral interests to protect the unique geological formations of the Tent Rocks Area of Critical Environmental Concern, is hereby revoked in its entirety.

2. The land will be managed in accordance with the laws and regulations pertaining to the Kasha-Katuwe Tent Rocks National Monument.

Dated: December 3, 2001.
J. Steven Griles,
Deputy Secretary.

[FR Doc. 01-31769 Filed 12-26-01; 8:45 am]

BILLING CODE 4310-FB-P